DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of two entities and thirteen vessels that have been placed on OFAC's Specially Designated Nationals and Blocked Persons List (SDN List) based on OFAC's determination that one or more applicable legal criteria were satisfied. All property and interests in property subject to U.S. jurisdiction of these persons and this vessel are blocked, and U.S. persons are generally prohibited from engaging in transactions with them.

DATES: See Supplementary Information section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://www.treasury.gov/ofac).

Notice of OFAC Action(s)

On April 4, 2024, OFAC determined that the property and interests in property subject to U.S. jurisdiction of the following persons and vessel subject are blocked under the relevant sanctions authority listed below.

Vessels

1. ANTHEA (D6A3314) Crude Oil Tanker Comoros flag; Secondary sanctions risk: section 1(b) of Executive Order 13224, as amended by Executive Order 13886; Vessel Registration Identification IMO 9281683; MMSI 620999315 (vessel) [SDGT] (Linked To: OCEANLINK MARITIME DMCC).

Identified as property in which OCEANLINK MARITIME DMCC, a person whose property and interests in property are blocked pursuant to E.O. 13224, as amended, has an interest.

2. BOREAS (D6A3315) Crude Oil Tanker Comoros flag; Secondary sanctions risk: section 1(b) of Executive Order 13224, as amended by Executive Order 13886; Vessel Registration Identification IMO 9248497; MMSI 620999316 (vessel) [SDGT] (Linked To: OCEANLINK MARITIME DMCC).

Identified as property in which OCEANLINK MARITIME DMCC, a person whose property and interests in property are blocked pursuant to E.O. 13224, as amended, has an interest.

3. HECATE (D6A3379) Crude Oil Tanker Comoros flag; Secondary sanctions risk: section 1(b) of Executive Order 13224, as amended by Executive Order 13886; Vessel Registration Identification IMO 9233753; MMSI 620999379 (vessel) [SDGT] (Linked To: OCEANLINK MARITIME DMCC).

Identified as property in which OCEANLINK MARITIME DMCC, a person whose property and interests in property are blocked pursuant to E.O. 13224, as amended, has an interest.

4. BAXTER (V3TF5) Oil Products Tanker Belize flag; Secondary sanctions risk: section 1(b) of Executive Order 13224, as amended by Executive Order 13886; Vessel Registration Identification IMO 9282522; MMSI 312513000 (vessel) [SDGT] (Linked To: OCEANLINK MARITIME DMCC).

Identified as property in which OCEANLINK MARITIME DMCC, a person whose property and interests in property are blocked pursuant to E.O. 13224, as amended, has an interest.

5. CALYPSO GAS (V2YC2) LPG Tanker Antigua and Barbuda flag; Secondary sanctions risk: section 1(b) of Executive Order 13224, as amended by Executive Order 13886; Vessel Registration Identification IMO 9131101; MMSI 304563000 (vessel) [SDGT] (Linked To: OCEANLINK MARITIME DMCC).

Identified as property in which OCEANLINK MARITIME DMCC, a person whose property and interests in property are blocked pursuant to E.O. 13224, as amended, has an interest.

6. CAPE GAS (D6A2739) LPG Tanker Comoros flag; Secondary sanctions risk: section 1(b) of Executive Order 13224, as amended by Executive Order 13886; Vessel Registration Identification IMO 9002491; MMSI 620739000 (vessel) [SDGT] (Linked To: OCEANLINK MARITIME DMCC).

Identified as property in which OCEANLINK MARITIME DMCC, a person whose property and interests in property are blocked pursuant to E.O. 13224, as amended, has an interest.

7. DEMETER (HPGV) Oil Products Tanker Panama flag; Secondary sanctions risk: section 1(b) of Executive Order 13224, as amended by Executive Order 13886; Vessel Registration Identification IMO 9258674; MMSI 370921000 (vessel) [SDGT] (Linked To: OCEANLINK MARITIME DMCC).

Identified as property in which OCEANLINK MARITIME DMCC, a person whose property and interests in property are blocked pursuant to E.O. 13224, as amended, has an interest.

8. ELSA (V3RZ8) Crude Oil Tanker Belize flag; Secondary sanctions risk: section 1(b) of Executive Order 13224, as amended by Executive Order 13886; Vessel Registration Identification IMO 9256468; MMSI 312038000 (vessel) [SDGT] (Linked To: OCEANLINK MARITIME DMCC).

Identified as property in which OCEANLINK MARITIME DMCC, a person whose property and interests in property are blocked pursuant to E.O. 13224, as amended, has an interest.

9. GLAUCUS (D6A3421) Crude Oil Tanker Comoros flag; Secondary sanctions risk: section 1(b) of Executive Order 13224, as amended by Executive Order 13886; Vessel Registration Identification IMO 9337389; MMSI 620999422 (vessel) [SDGT] (Linked To: OCEANLINK MARITIME DMCC).

Identified as property in which OCEANLINK MARITIME DMCC, a person whose property and interests in property are blocked pursuant to E.O. 13224, as amended, has an interest.

10. HEBE (D6A3378) Crude Oil Tanker Comoros flag; Secondary sanctions risk: section 1(b) of Executive Order 13224, as amended by Executive Order 13886; Vessel Registration Identification IMO 9259185; MMSI 620999378 (vessel) [SDGT] (Linked To: OCEANLINK MARITIME DMCC).

Identified as property in which OCEANLINK MARITIME DMCC, a person whose property and interests in property are blocked pursuant to E.O. 13224, as amended, has an interest.

11. MERAKI (V2YB7) Crude Oil Tanker Antigua and Barbuda flag; Secondary sanctions risk: section 1(b) of Executive Order 13224, as amended by Executive Order 13886; Vessel Registration Identification IMO 9194139; MMSI 304552000 (vessel) [SDGT] (Linked To: OCEANLINK MARITIME DMCC).

Identified as property in which OCEANLINK MARITIME DMCC, a person whose property and interests in property are blocked pursuant to E.O. 13224, as amended, has an interest.

12. OCEANUS GAS (D6A3372) LPG Tanker Comoros flag; Secondary sanctions risk: section 1(b) of Executive Order 13224, as amended by Executive Order 13886; Vessel Registration Identification IMO 9397080; MMSI 620999373 (vessel) [SDGT] (Linked To: OCEANLINK MARITIME DMCC).

Identified as property in which OCEANLINK MARITIME DMCC, a person whose property and interests in property are blocked pursuant to E.O. 13224, as amended, has an interest.

13. OUREA (E5U5002) LPG Tanker Cook Islands flag; Secondary sanctions risk: section 1(b) of Executive Order 13224, as amended by Executive Order 13886; Vessel Registration Identification IMO 9350422; MMSI 518999021 (vessel) [SDGT] (Linked To: OCEANLINK MARITIME DMCC).

Identified as property in which OCEANLINK MARITIME DMCC, a person whose property and interests in property are blocked pursuant to E.O. 13224, as amended, has an interest.

On April 4, 2024, OFAC updated the entry on the SDN List for the following vessel, which continues to be blocked under the relevant sanctions authorities listed below.

Vessel

1. YOUNG YONG Oil Products Tanker Djibouti flag; Secondary sanctions risk: section 1(b) of Executive Order 13224, as amended by Executive Order 13886; Vessel Registration Identification IMO 9194127; MMSI 621819067 (vessel) [SDGT] (Linked To: TECHNOLOGY BRIGHT INTERNATIONAL LIMITED).

-to-

SAINT LIGHT (a.k.a. STELLAR ORACLE; a.k.a. YOUNG YONG) (8RAR1) Oil Products Tanker Guyana flag; Secondary sanctions risk: section 1(b) of Executive Order 13224, as amended by Executive Order 13886; Vessel Registration Identification IMO 9194127; MMSI 750514000 (vessel) [SDGT] (Linked To: TECHNOLOGY BRIGHT INTERNATIONAL LIMITED).

Identified as property in which TECHNOLOGY BRIGHT INTERNATIONAL LIMITED, a person whose property and interests in property are blocked pursuant to E.O. 13224, as amended, has an interest.

Dated: April 4, 2024.
Bradley T. Smith,
Director, Office of Foreign Assets Control, U.S. Department of the Treasury.

[FR Doc. 2024-08697 Filed 4-23-24; 8:45 am]

BILLING CODE 4810-AL-P